DEPARTMENT OF LABOR

Employment and Training Administration

[TA-W-59,591]

JPMorgan Chase and Co.; Chase Home Equity; Houston, TX; Notice of Termination of Investigation

Pursuant to section 221 of the Trade Act of 1974, as amended, an investigation was initiated on June 20, 2006, in response to a petition filed by a union official on behalf of workers of JPMorgan Chase and Co., Chase Home Equity, Houston, Texas.

The petition regarding the investigation has been deemed invalid. The petitioner was not a union official, but was one dislocated worker. A petition filed by workers requires three (3) signatures. Consequently, the investigation has been terminated.

Signed at Washington, DC, this 5th day of July, 2006.
Linda G. Poole,
Certifying Officer, Division of Trade Adjustment Assistance.

[FR Doc. E6-11866 Filed 7-24-06; 8:45 am]

BILLING CODE 4510-30-P